DEPARTMENT OF DEFENSE

Department of the Navy

[Docket ID USN-2013-0014]

Privacy Act of 1974; System of Records

AGENCY: Department of the Navy, DoD.

ACTION: Notice to alter a System of Records.

SUMMARY: The Department of the Navy proposes to alter a system of records in its inventory of record systems subject to the Privacy Act of 1974 (5 U.S.C. 552a), as amended.

DATES: This proposed action will be effective on July 16, 2013 unless comments are received which result in a contrary determination. Comments will be accepted on or before July 15, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html.

The proposed system report, as required by 5 U.S.C. 552a(r) of the Privacy Act of 1974, as amended, was submitted on May 6, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 10, 2013.
Aaron Siegel,
Alternate OSD Federal Register Liaison Officer, Department of Defense.

NM05720-1

System name:

FOIA Request/Appeal Files and Tracking System (April 2, 2008, 73 FR 17961)

Changes:

* * * * *

Categories of records in the system:

Delete entry and replace with “FOIA request/appeal, copies of responsive records (redacted and released), correspondence generated as a result of the request, cost forms, memoranda, legal opinions, messages, and miscellaneous documents which relate to the request. Database used to track requests from start to finish and formulate response letters may contain name, Social Security Number (SSN), business or company name, home and/or work address, home and/or work phone number, fax number, home and/or work email address, year of request/appeal filed; serial number of response letter; case file number and/or caseworker. FOIA requests may contain unsolicited personal information.

Collection of the SSN under this notice is only authorized in connection with requests for records maintained in other systems of records that require that information and which have obtained authorization for the collection and maintenance of the SSN.”

Authority for maintenance of the system:

Delete entry and replace with “5 U.S.C. 552, the Freedom of Information Act, as amended; 10 U.S.C. 5013, Secretary of the Navy; 10 U.S.C. 5041, Headquarters, Marine Corps; DoDD 5400.07, DoD Freedom of Information Act (FOIA) Program; Secretary of the Navy Instruction 5720.42F, Department of the Navy Freedom of Information Act Program; and E.O. 9397 (SSN), as amended.”

Purpose(s):

Delete entry and replace with “To track, process, and coordinate requests/appeals/litigation made under the provisions of the FOIA. To provide responses to requests including requests for access to information regarding FOIA requests and/or what is being requested under the provisions of the FOIA. To compile data for FOIA reporting requirements.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Navy's compilation of systems of records notices may apply to this system.”

Policies and practices for storing, retrieving, accessing, retaining, and disposing of records in the system:

Storage:

Delete entry and replace with “Paper and/or electronic storage media.”

Retrievability:

Delete entry and replace with “Name; year of request/appeal filed; serial number of response letter; case file number and/or caseworker.”

Safeguards:

Delete entry and replace with “Records are accessed by custodian of the record system and by persons responsible for servicing the record system in performance of their official duties. Records are stored in cabinets or rooms, which are not viewable by individuals who do not have a need to know. Computerized databases are password protected and accessed by individuals who have a need to know. System software uses Primary Key Infrastructure (PKI)/Common Access Card (CAC) authentication to lock out unauthorized access.”

* * * * *

System manager(s) and address:

Delete entry and replace with “Head, Department of Navy Privacy/Freedom of Information Act Office, Chief of Naval Operations (DNS-36), 2000 Navy Pentagon, Washington, DC 20350-2000.

Record Holders:

Organizational elements of the Department of the Navy. Official mailing addresses are published in the Standard Navy Distribution List (SNDL) that is published as an appendix to the Navy's compilation of system of records notices.

Appellate Authorities:

Office of the Judge Advocate General (Code 14), 1322 Patterson Avenue SE., Suite 3000, Building 33, Washington, Navy Yard, Washington, DC 20374-5066

General Counsel of the Navy (FOIA), 1000 Navy Pentagon, Room 5A532, Washington, DC 20350-1000.”

Notification procedure:

Delete entry and replace with “Individuals seeking to determine whether information about themselves is contained in this system should address written inquiries to the Freedom of Information Act coordinator, Commanding Officer of the activity in question, or in the case of appeals to the appropriate appellate authority. Official mailing addresses are published in the Standard Navy Distribution List (SNDL) that is published as an appendix to the Navy's compilation of system of records notices.

The request should contain the full name of the individual and one or more of the following kinds of information: year request/appeal filed; serial number of response letter; and/or case file number. Requests must also be signed.

Collection of the SSN under this notice is only authorized in connection with requests for records maintained in other systems of records that require that information and which have obtained authorization for the collection and maintenance of the SSN.

The system manager may require an original signature or a notarized signature as a means of proving the identity of the individual requesting access to the records.”

Record access procedures:

Delete entry and replace with “Individuals seeking access to information about themselves contained in this system should address written inquiries to the Freedom of Information Act coordinator, Commanding Officer of the activity in question, or in the case of appeals to the appropriate appellate authority. Official mailing addresses are published in the Standard Navy Distribution List (SNDL) that is published as an appendix to the Navy's compilation of system of records notices.

The request should contain the full name of the individual and one or more of the following kinds of information: year request/appeal filed; serial number of response letter; and/or case file number. Requests must also be signed.

Collection of the SSN under this notice is only authorized in connection with requests for records maintained in systems of records that require that information and which have obtained authorization for the collection and maintenance of the SSN.

The system manager may require an original signature or a notarized signature as a means of proving the identity of the individual requesting access to the records.”

* * * * *

[FR Doc. 2013-14053 Filed 6-12-13; 8:45 am]

BILLING CODE 5001-06-P